UNITED STATES PATENT AND TRADEMARK OFFICE

Recording Assignments

ACTION: Proposed Collection; Comment Request.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before December 21, 2001.

ADDRESSES: Direct all written comments to Susan K. Brown, Records Officer, Data Administration Division, Office of Data Management, United States Patent and Trademark Office, Crystal Park 3, Suite 310, Washington, DC 20231; by telephone at (703) 308-7400; or by electronic mail at Susan.Brown@uspto.gov.

FOR FURTHER INFORMATION CONTACT: Requests for additional information should be directed to Joyce R. Johnson, Manager of the Assignment Division, United States Patent and Trademark Office, Crystal Gateway 4, Room 300, 1213 Jefferson Davis Highway, Arlington, Va. 22202; by telephone at (703) 308-9706; or by electronic mail at Joyce.Johnson@uspto.gov.

SUPPLEMENTARY INFORMATION:

I. Abstract

As part of the responsibilities outlined by 35 U.S.C. 261 and 262 for patents, and 15 U.S.C. 1057 and 1060 of the Trademark Act of 1946 for trademarks, the USPTO records a variety of documents submitted to them by the public, corporations, other federal agencies, and Government-owned or Government-controlled corporations. These individuals, federal agencies, and corporations can submit various documents that establish their rights and/or titles for patents and trademarks to the USPTO for recording. This process officially and publicly establishes their rights and titles. These documents typically include items such as transfers of properties (i.e. patents and trademarks), liens, licenses, assignments of interest, security interests, mergers, and explanations of transactions or other documents that record the transfer of ownership from one party to another. The USPTO can also record assignments for applications, patents, and trademarks. By submitting these various documents, the individual, federal agency, or corporation can establish their ownership of a particular patent or trademark property.

Once a document has been recorded, it is available to the public. All recorded documents, except for those under secrecy orders or those in which the federal government has a documented interest, can be viewed by the public. The public uses these documents to conduct ownership and chain-of-title searches. The public can view these records either at the USPTO or the National Archives and Records Administration, depending on when they were recorded.

To make the recording process faster, more efficient, and more accurate, the USPTO developed the Patent and Trademark Assignment System (PTAS). This system helps automate the movement of the various documents to be recorded throughout the USPTO Assignment Division.

In order to accurately record a document and to take advantage of the speed and efficiency of the PTAS, the USPTO developed cover sheets to submit with the document to be recorded. These cover sheets capture all of the necessary data needed to accurately record the various documents.

II. Method of Collection

By mail, facsimile, or hand delivery to the USPTO.

III. Data

OMB Number: 0651-0027.

Form Number(s): PTO-1594 and PTO-1595.

Type of Review: Extension of a currently approved collection.

Affected Public: Individuals or households; businesses or other for-profits; not-for-profit institutions; farms; the Federal Government; and state, local or tribal governments.

Estimated Number of Respondents: 275,500 responses per year. The USPTO estimates that 27,550 Trademark Recordation Form Cover Sheets (Form PTO-1594) and 247,950 Patent Recordation Form Cover Sheets (Form PTO-1595) will be submitted per year.

Estimated Time Per Response: The USPTO estimates that it will take the public 30 minutes (.5 hours) to complete either the Trademark Recordation Form Cover Sheet (PTO-1594) or the Patent Recordation Form Cover Sheet (PTO-1595). These estimates include the time to gather the necessary information, prepare the form, and submit the completed form.

Estimated Total Annual Respondent Burden Hours: 137,750 hours per year. The USPTO estimates that the total annual burden hours will be 13,775 hours per year for Form PTO-1594 and 123,975 hours per year for Form PTO-1595.

Estimated Total Annual Respondent Cost Burden: $34,713,000 per year. Using the professional hourly rate of $252 per hour for associate attorneys in private firms, the USPTO estimates $3,471,300 per year for salary costs associated with respondents using Form PTO-1594, and $31,241,700 per year for salary costs associated with respondents using Form PTO-1595.

Item | Estimated time for response (minutes) | Estimated annual responses | Estimated annual burden hours
Trademark Recordation Form Cover Sheet | 30 | 27,550 | 13,775
Patent Recordation Form Cover Sheet | 30 | 247,950 | 123,975
Total |  | 275,500 | 137,750

Estimated Total Annual Nonhour Respondent Cost Burden (includes capital start-up costs and filing fees): $11,020,000 per year. The filing cost for submitting a Trademark Recordation Form Cover Sheet is $40 for the first property, for a minimum total of $1,102,000 per year, and for submitting a Patent Recordation Form Cover Sheet is $40 per property, for a minimum total of $9,918,000 per year. However, the total filing cost for a Trademark Recordation Cover Sheet or a Patent Recordation Cover Sheet varies according to the number of properties involved in each submission. When submitting a Trademark Recordation Form Cover Sheet, the customer must pay the processing fee of $40 as indicated by 37 CFR 2.6(b)(6) for recording the first property in a document and $25 for each additional property in the same document. When submitting a Patent Recordation Form Cover Sheet, the customer must pay the processing fee of $40 as indicated by 37 CFR 1.21(h) for recording each property in a document.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: October 12, 2001.
Susan K. Brown,
Acting Records Officer, USPTO, Office of Data Management, Data Administration Division.

[FR Doc. 01-26381 Filed 10-19-01; 8:45 am]

BILLING CODE 3510-16-P